DEPARTMENT OF TRANSPORTATION

Federal Railroad Administration

[Docket Number FRA-2013-0124]

Petition for Waiver of Compliance

In accordance with Part 211 of Title 49 Code of Federal Regulations (CFR), this document provides the public notice that by a document dated October 24, 2013, the Cuyahoga Valley Scenic Railroad (CVSX) petitioned the Federal Railroad Administration (FRA) for a waiver of compliance from certain provisions of the Federal railroad safety regulations contained at 49 CFR Part 223, Safety Glazing Standards—Locomotives, Passenger Cars and Cabooses. FRA assigned the petition Docket Number FRA-2013-0124. CVSX, an Ohio non-profit 501(c)(3) organization, petitioned for a waiver of compliance from certain provisions of the safety glazing standards as prescribed by 49 CFR 223.15, Requirements for existing passenger cars, for 10 coach cars used in tourist/excursion service. Specifically, the car numbers are: CVSX 1, 89, 105, 110, 727, 2914, 3052, 3126, 6217, and 8700. These cars were built by various car builders in the late 1940s and early 1950s. The cars were acquired by CVSX between 1993 and 2009 from multiple sources. The trains are locomotive-hauled and operate in rural areas at speeds up to 29 mph. Since the cars were purchased and delivered to CVSX, there have been no acts of vandalism against the glazing. The primary use of the cars is for excursion trips on 25 miles of single track through the Cuyahoga Valley National Park. These cars typically operate up to12 months a year.

The cars are equipped with laminated safety glass and have windows marked for emergency egress on the interior as well as the exterior. The cars have emergency tools to break the marked egress windows. As these windows are not manufactured emergency egress windows, they will be marked as to where to break for emergency use. First responders within the park will attend periodic training seminars on how to remove these windows.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 7, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/# !privacyNotice for the privacy notice of regulations.gov or interested parties may review DOT's complete Privacy Act Statement in the Federal Register published on April 11, 2000 (65 FR 19477).

Robert C. Lauby,
Associate Administrator for Railroad Safety, Chief Safety Officer.

[FR Doc. 2014-00956 Filed 1-17-14; 8:45 am]

BILLING CODE 4910-06-P